DEPARTMENT OF AGRICULTURE

Federal Crop Insurance Corporation

Funding Opportunity Title: Risk Management Education in Targeted States (Targeted States Program); Announcement Type: Announcement of Availability of Funds and Request for Applications (RFA) for Competitive Cooperative Agreements

Catalog of Federal Domestic Assistance (CFDA) Number: 10.458.

DATES: All applications, which must be submitted electronically through Grants.gov, must be received by 11:59 p.m. Eastern Time on July 15, 2011. Hard copy applications shall NOT be accepted.

SUMMARY: The Federal Crop Insurance Corporation (FCIC), operating through the Risk Management Agency (RMA), announces its intent to award approximately $5,000,000 (subject to availability of funds) to fund cooperative agreements under the Risk Management Education in Targeted States Program (the Targeted States Program). The purpose of this cooperative agreement program is to deliver crop insurance education and information to U.S. agricultural producers in States where there is traditionally, and continues to be, a low level of Federal crop insurance participation and availability, and producers are underserved by the Federal crop insurance program. These states, defined as Targeted States for the purposes of this RFA, are Connecticut, Delaware, Hawaii, Maine, Maryland, Massachusetts, Nevada, New Hampshire, New Jersey, New York, Pennsylvania, Rhode Island, Utah, Vermont, West Virginia, and Wyoming. Any cooperative agreements that may be funded shall not exceed the maximum funding amount established for each of the Targeted States. Awardees must agree to the substantial involvement of RMA in the project. Funding availability for this program may be announced at approximately the same time as funding availability for similar but separate program, the Risk Management Education and Outreach Partnership Program (CFDA No. 10.455) and (CFDA No. 10.459). Prospective applicants must carefully examine and compare the notices of each announcement.

The collections of information in this announcement have been approved by the Office of Management and Budget (OMB) under control number 0563-0067.

This Announcement Consists of Eight Sections

Section I—Funding Opportunity Description

A. Legislative Authority

B. Background

C. Project Goal

D. Purpose

Section II—Award Information

A. Type of Application

B. Funding Availability

C. Location and Target Audience

D. Maximum Award

E. Project Period

F. Description of Agreement Award- Awardee Tasks

G. RMA Activities

H. Other Tasks

Section III—Eligibility Information

A. Eligible Applicants

B. Cost Sharing or Matching

Section IV—Application and Submission Information

A. Electronic Application Package

B. Content and Form of Application Submission

C. Funding Restrictions

D. Limitation on Use of Project Funds for Salaries and Benefits

E. Indirect Cost Rates

F. Other Submission Requirements

G. Acknowledgement of Applications

Section V—Application Review Process

A. Criteria

B. Selection and Review Process

Section VI—Award Administration Information

A. Award Notices

B. Administrative and National Policy Requirements

1. Requirement to Use Program Logo

2. Requirement to Provide Project Information to RMA-selected Representative(s)

3. Private Crop Insurance Organizations and Potential Conflict(s) of Interest

4. Access to Panel Review Information

5. Confidential Aspects of Applications and Awards

6. Audit Requirements

7. Prohibitions and Requirements With Regards to Lobbying

8. Applicable OMB Circulars

9. Requirement to Assure Compliance with Federal Civil Rights Laws

10. Requirement to Participate in a Post Award Teleconference

11. Requirement to Submit Educational Materials to the National AgRisk Education Library

12. Requirement to Submit Proposed Results to the National AgRisk Education Library

13. Requirement to Submit a Project Plan of Operation in the Event of a Human Pandemic Outbreak

C. Reporting Requirements

Section VII—Agency Contact

Section VIII—Additional Information

A. Required Registration with the Central Contract Registry (CCR) for Submission of Proposals

B. Related Programs

Full Text of Announcement

I. Funding Opportunity Description

A. Legislative Authority

The Targeted States Program is authorized under section 524(a)(2) of the Federal Crop Insurance Act (FCIA), 7 U.S.C. 1524(a)(2).

B. Background

RMA promotes and regulates sound risk management solutions to improve the economic stability of American agriculture. On behalf of FCIC, RMA does this by offering Federal crop insurance products through a network of private-sector partners, overseeing the creation of new risk management products, seeking enhancements in existing products, ensuring the integrity of crop insurance programs, offering outreach programs aimed at equal access and participation of underserved communities, and providing risk management education and information.

One of RMA's strategic goals is to ensure that its customers are well-informed of risk management solutions available. This educational goal is authorized by section 524(a)(2) of the FCIA (7 U.S.C. 1524(a)(2)). This section authorizes funding for the establishment of crop insurance education and information programs in States where there is traditionally, and continues to be, a low level of Federal crop insurance participation and availability, and producers are underserved by the Federal crop insurance program. In accordance with the FCIA, the States with this designation for FY 2011 are Connecticut, Delaware, Hawaii, Maine, Maryland, Massachusetts, Nevada, New Hampshire, New Jersey, New York, Pennsylvania, Rhode Island, Utah, Vermont, West Virginia, and Wyoming (defined as “Targeted States” for the purposes of this RFA).

C. Project Goal

The goal of the Targeted States Program is to ensure that producers in the Targeted States are fully informed of existing and emerging crop insurance products in order to take full advantage of such products. In carrying out the requirements under Section 12026 of the Food, Conservation, and Energy Act of 2008, the Secretary of Agriculture has placed Special Emphasis on risk management strategies, education, and outreach specifically targeted to the following Producer Groups—

(A) Beginning farmers or ranchers;

(B) Legal immigrant farmers or ranchers that are attempting to become established producers in the United States;

(C) Socially disadvantaged farmers or ranchers;

(D) Farmers or ranchers that—

(i) Are preparing to retire; and

(ii) Are using transition strategies to help new farmers or ranchers get started; and

(E) New or established farmers or ranchers that are converting production and marketing systems to pursue new markets.

D. Purpose

The purpose of the Targeted States Program is to provide producers in Targeted States with education and information to be able to understand:

• The kinds of risks addressed by crop insurance;

• The features of existing and emerging crop insurance products;

• The use of crop insurance in the management of risk;

• How the use of crop insurance can affect other risk management decisions, such as the use of marketing and financial tools;

• How to make informed decisions on crop insurance prior to the sales closing date deadline; and

• Recordkeeping requirements for crop insurance.

In addition, for 2011, the FCIC Board of Directors and the FCIC Manager are seeking projects that also include the Priority Topics listed below which highlight the educational priorities within each of the Targeted States. Applications that do not address at least one (1) Priority Topic shall not be considered for funding.

Priority Topics

In All Targeted States (where the crop insurance programs or options are available): Livestock Gross Margin Dairy; Pasture, Rangeland and Forage Rainfall and Vegetative Index; Common Crop Insurance Policy Basic Provisions (“COMBO”); Enterprise Units, and Specialty Crops;

Maine: Northern Potatoes;

North Carolina, Virginia, and West Virginia: Livestock Risk Protection—Feeder Cattle;

North Carolina, Virginia, and West Virginia: Livestock Risk Protection—Swine;

Pennsylvania and Virginia: Livestock Risk Protection—Lamb;

Wyoming: Livestock Risk Protection—Feeder Cattle.

In addition, applications must clearly designate that educational activities shall be directed to at least one (1) Producer Group below. Applications that do not address at least one (1) Producer Group shall not be considered for funding.

Producer Groups

(A) Beginning farmers or ranchers;

(B) Legal immigrant farmers or ranchers that are attempting to become established producers in the United States;

(C) Socially disadvantaged farmers or ranchers;

(D) Farmers or ranchers that—

(i) Are preparing to retire; and

(ii) Are using transition strategies to help new farmers or ranchers get started; and

(E) New or established farmers or ranchers that are converting production and marketing systems to pursue new markets.

II. Award Information

A. Type of Application

Only electronic applications only shall be accepted and they must be submitted through Grants.gov. Hard copy applications shall NOT be accepted. Applications submitted for the Risk Management Education in Targeted States Program are new applications: There are no renewals. All applications shall be reviewed competitively using the selection process and evaluation criteria described in Section V—Application Review Process. Each award shall be designated as a Cooperative Agreement, which shall require substantial involvement by RMA.

B. Funding Availability

There is no commitment by USDA to fund any particular application or make a specific number of awards. RMA intends to award approximately $5,000,000 (subject to availability of funds) in fiscal year 2011 to fund one or more cooperative agreement(s) not to exceed the maximum funding amount established for each of the Targeted States. The maximum funding amount anticipated for the agreement(s) in each Targeted State is as follows. An applicant must apply for funding for that Targeted State where the applicant intends to deliver the educational activities, and must limit its request for funding in a particular Targeted State based upon the funding levels available below.

Connecticut | $250,000
Delaware | $287,000
Hawaii | $246,000
Maine | $259,000
Maryland | $371,000
Massachusetts | $239,000
Nevada | $248,000
New Hampshire | $216,000
New Jersey | $282,000
New York | $586,000
Pennsylvania | $700,000
Rhode Island | $206,000
Utah | $316,000
Vermont | $259,000
West Virginia | $242,000
Wyoming | $293,000
Total | $5,000,000

Funding amounts were determined by first allocating an equal amount of $200,000 to each Targeted State. Remaining funds were allocated on a pro rata basis according to each Targeted State's share of agricultural cash receipts reported in the National Agricultural Statistics Service (NASS) 2007 Agricultural Census, relative to the total for all Targeted States. Both the equal allocation and the pro rata allocation were totaled together and rounded to the nearest $1,000 to arrive at the funding limit for each Targeted State.

In the event that additional funds become available under this program or in the event that no application for a given Targeted State is recommended for funding by the evaluation panel, these additional funds, or unused funds for a particular Targeted State, may be allocated pro-rata to other awardees. These additional or unused funds may be offered to selected awardees for use in broadening the size or scope of awarded projects within the Targeted States in which funds were awarded, if such selected awardees agree to any changes to the project necessary determined by RMA to make use of the additional funds. The decision of whether any additional or unused funds are offered to other award recipients, and the pro-rata manner in which they may be distributed to recipients that are willing to make required adjustments to their awarded projects to accept such additional funds, is within the discretion of the FCIC Manager. RMA is not required to distribute any additional or unused funds to the awardees.

In the event that the Manager of FCIC determines that available RMA resources cannot support the administrative and substantial involvement requirements of all agreements recommended for funding, the Manager may elect to fund fewer agreements than the available funding might otherwise allow. All awards shall be made and agreements finalized no later than September 30, 2011.

C. Location and Target Audience

The RMA Regional Offices that service the Targeted States are listed below. Staff from these respective RMA Regional Offices shall provide the RMA substantial involvement for Targeted States projects conducted within the respective Regions.

Billings, MT Regional Office: (WY)

Davis, CA Regional Office: (HI, NV and UT)

Raleigh, NC Regional Office: (CT, DE, MA, MD, ME, NH, NJ, NY, PA, RI, VT and WV)

Each application must clearly designate the Targeted State where crop insurance educational activities for the project shall be delivered in block 14 of the SF-424, “Application for Federal Assistance.” Applications without this designation in block 14 shall be rejected. Applicants may apply to deliver education to producers in more than one Targeted State, but a separate application must be submitted for each Targeted State because applications shall be compared to applications submitted for the same state. Any single application proposing to conduct educational activities in more than one Targeted State shall be rejected.

D. Maximum Award

Any application that requests funding under this Announcement of more than the amount listed above for a project in a given Targeted State shall be rejected.

E. Project Period

Projects shall be funded for a period of up to one year from the project starting date.

F. Description of Agreement Award-Awardee Tasks

In conducting activities to achieve the purpose and goal of this program in a designated Targeted State, the awardee shall be responsible for performing the following tasks:

• Develop and conduct a promotional program. This program shall include activities using media, newsletters, publications, or other appropriate informational dissemination techniques that are designed to: (a) Raise awareness for crop insurance; (b) inform producers of the availability of crop insurance; (c) inform producers of the crop insurance sales closing dates prior to the deadline; and (d) inform producers (and may inform agribusiness professionals), in the designated Targeted State of training and informational opportunities.

• Deliver crop insurance training and informational opportunities to agricultural producers (and may deliver to agribusiness professionals) in the designated Targeted State in a timely manner, prior to crop insurance sales closing dates, in order for producers to make informed decisions regarding risk management tools prior to the crop insurance sales closing dates deadline. This delivery shall include organizing and delivering educational activities using instructional materials that have been assembled to meet the local needs of agricultural producers. Activities must be directed primarily to agricultural producers, but may include those agribusiness professionals that frequently advise producers on crop insurance tools and decisions and shall use the information gained from these trainings to advise producers.

• Document all educational activities conducted under the cooperative agreement and the results of such activities, including criteria and indicators used to evaluate the success of the program. The awardee shall also be required, if requested by RMA, to provide information to RMA-selected contractor(s) to evaluate all educational activities and advise RMA regarding the effectiveness of activities.

G. RMA Activities

RMA shall be substantially involved during the performance of the funded project through three of RMA's ten Regional Offices. Potential types of substantial involvement by these three Regional Offices shall include, but are not limited to, the following activities.

• Collaborate with the awardee in assembling, reviewing, and approving risk management materials for producers in the designated Targeted States.

• Collaborate with the awardee in reviewing and approving a promotional program for raising awareness for risk management and for informing producers of training and informational opportunities in the Targeted States.

• Collaborate with the awardee on the delivery of education to producers and agribusiness professionals for the Targeted States. This collaboration shall include: (a) Reviewing and approving in advance all producer and agribusiness professional educational activities; (b) advising the awardee on technical issues related to crop insurance education and information; and (c) assisting the awardee in informing producers and agribusiness professionals about educational activity plans and scheduled meetings.

• Conduct an evaluation of the performance of the awardee in meeting the purpose and goals of the project.

• Assist in the selection of subcontractors and project staff.

Applications that do not contain substantial involvement by RMA shall be rejected.

H. Other Tasks

In addition to the specific, required tasks listed above, the applicant may propose additional tasks that would contribute directly to the purpose of this program. For any proposed additional task, the applicant must identify the objective of the task, the specific subtasks required to meet the objective, specific time lines for performing the subtasks, and the specific responsibilities of partners. The applicant must also identify specific ways in which RMA would have substantial involvement in the proposed project task.

III. Eligibility Information

A. Eligible Applicants

Eligible applicants include: State Departments of Agriculture, State Cooperative Extension Services; Federal, State, or Tribal agencies; community based organizations; nongovernmental organizations; junior and four-year colleges or universities or foundations maintained by a college or university; private for-profit organizations; and other entities with the capacity to lead a program of risk management education for producers in one or more Targeted States. Individuals are not eligible applicants. Although an applicant may be eligible to compete for an award based on its status as the type of entity described immediately above, other factors may exclude an applicant from receiving Federal assistance under this program, which is governed by Federal law and regulations (e.g. debarment and suspension; a determination of non-performance on a prior contract, cooperative agreement, grant or cooperative partnership; a determination of a violation of applicable ethical standards). Applications in which the applicant or any of the partners are ineligible or excluded persons shall be rejected in their entirety.

B. Cost Sharing or Matching

Although RMA prefers cost sharing by the applicant, this program has neither a cost sharing nor a matching requirement.

IV. Application and Submission Information

A. Electronic Application Package

RMA shall only accept electronic applications for this program. These electronic applications must be submitted via Grants.gov to the Risk Management Agency in response to this RFA. Prior to preparing an application, it is suggested that the Project Director (PD) first contact an Authorized Representative (AR) (also referred to as Authorized Organizational Representative or AOR) to determine if the organization is prepared to submit electronic applications through Grants.gov. If the organization is not prepared, the AR should see, http://www.grants.gov/applicants/get_registered.jsp, for steps for preparing to submit applications through Grants.gov.

Grants.gov assistance is available as follows:

• Grants.gov customer support,

Toll Free: 1-800-518-4726,

Business Hours: 24 Hours a day.

E-mail: support@grants.gov.

B. Content and Form of Application Submission

The title of the application must include (1) The Targeted State, (2) the Producer Group(s) and, and (3) the Priority Topic(s).

For an application to potentially be considered complete and valid, an application must include the following items, at a minimum:

1. A completed OMB Standard Form 424, “Application for Federal Assistance.”

2. A completed OMB Standard Form 424-A, “Budget Information—Non-construction Programs.”

3. A completed OMB Standard Form 424-B, “Assurances, Non-constructive Programs.”

4. An Executive Summary (One page) and Proposal Narrative (Not to Exceed 10 single-sided pages in Microsoft Word), which shall also include a Statement of Work as specified in section V.A. of this Announcement.

5. Budget Narrative (in Microsoft Excel) describing how the categorical costs listed on the SF 424-A are derived. The budget narrative should provide enough detail for reviewers to easily understand how costs were determined and how they relate to the goals and objectives of the project.

6. Partnering Plan, if applicable, that includes how each partner shall aid in carrying out the project goal providing specific tasks. Letters of commitment from individuals and/or groups must be included in the Partnering Plan, and these letters must include the specific tasks they have agreed to do with the applicant.

7. A completed and signed OMB Standard Form LLL, “Disclosure of Lobbying Activities.”

8. A completed and signed AD-1049, “Certification Regarding Drug-Free Workplace Requirements (Grants) Alternative I—For Grantees Other Than Individuals.”

Applications that do not include, at a minimum, the items listed above shall be considered incomplete, shall not receive further consideration, and shall be rejected.

The percentage of each person's time devoted to the project must be identified in the application. Applicants must list all current public or private employment arrangements or financial support associated with the project or any of the personnel that are part of the project, regardless of whether such arrangements or funding constitute part of the project under this Announcement (supporting agency, amount of award, effective date, expiration date, expiration date of award, etc.). An application submitted under this RFA that duplicates or overlaps substantially with any application already reviewed and funded (or to be funded) by any other organization or agency, including but not limited to other RMA, USDA, and Federal government programs, shall not be funded under this program. The application package from Grants.gov contains a document called the Current and Pending Report. On the Current and Pending Report you must state for this fiscal year if this application is a duplicate application or overlaps substantially with another application already submitted to or funded by another USDA Agency, including RMA, or other private organization. RMA reserves the right to reject your application based on the review of this information. The total percentage of time for both “Current” and “Pending” projects must not exceed 100% of each person's time.

C. Funding Restrictions

Cooperative agreement funds may not be used to:

a. Plan, repair, rehabilitate, acquire, or construct a building or facility including a processing facility;

b. Purchase, rent, or install fixed equipment;

c. Repair or maintain privately owned vehicles;

d. Pay for the preparation of the cooperative agreement application;

e. Fund political activities;

f. Purchase alcohol, food, beverage, or entertainment;

g. Lend money to support farming or agricultural business operation or expansion;

h. Pay costs incurred prior to receiving a cooperative agreement; or

i. Fund any activities prohibited in 7 CFR Parts 3015 and 3019, as applicable.

D. Limitation on Use of Project Funds for Salaries and Benefits

Total costs for salary and benefits allowed for projects under this Announcement shall be limited to not more than 70 percent reimbursement of the funds awarded under the cooperative partnership agreement. The reasonableness of the total costs for salary and benefits allowed for projects under this Announcement shall be reviewed and considered by RMA as part of the application review process. Applications for which RMA does not consider the salary and benefits reasonable for the proposed application shall be rejected, or shall only be offered a cooperative agreement upon the condition of changing the salary and benefits structure to one deemed appropriate by RMA for that application. The goal of the Targeted States Program is to maximize the use of the limited funding available for crop insurance education to producers in Targeted States.

E. Indirect Cost Rates

a. Indirect costs allowed for projects submitted under this announcement shall be limited to ten (10) percent of the total direct cost of the cooperative agreement. Therefore, when preparing budgets, applicants should limit their requests for recovery of indirect costs to the lesser of their institution's official negotiated indirect cost rate or 10 percent of the total direct costs.

b. RMA reserves the right to negotiate final budgets with successful applicants.

F. Other Submission Requirements

Applicants are entirely responsible for ensuring that RMA receives a complete application package by the closing date and time. RMA strongly encourages applicants to submit applications well before the deadline to allow time for correction of technical errors identified by Grants.gov. Application packages submitted after the deadline shall be rejected.

G. Acknowledgement of Applications

Receipt of applications shall be acknowledged by e-mail, whenever possible. Therefore, applicants are encouraged to provide e-mail addresses in their applications. If an e-mail address is not indicated on an application, receipt shall be acknowledged by letter. There shall be no notification of incomplete, unqualified or unfunded applications until the award decisions have been made. When received by RMA, applications shall be assigned an identification number. This number shall be communicated to applicants in the acknowledgement of receipt of applications. An application's identification number must be referenced in all correspondence submitted by any party regarding the application. If the applicant does not receive an acknowledgement of application receipt by 15 days following the submission deadline, the applicant must notify RMA's point of contact indicated in Section VII, Agency Contact.

V. Application Review Information

A. Criteria

Applications submitted under the Targeted States program shall be evaluated within each Targeted State according to the following criteria:

Project Impacts—maximum 20 points available

Each application must demonstrate that the project benefits to producers warrant the funding requested. Applications shall be scored according to the extent they can: (a) Identify the specific actions producers shall likely be able to take as a result of the educational activities described in the Statement of Work; (b) identify the specific measures for evaluating results that shall be employed in the project; (c) reasonably estimate the total number of producers that shall be reached through the various methods and educational activities described in the Statement of Work; (d) identify the number of meetings that shall be held; (e) provide an estimate of the number of training hours that shall be held; and (f) justify such estimates with specific information. Reviewers' scoring shall be based on the scope and reasonableness of the application's clear descriptions of specific expected actions producers shall accomplish, and well-designed methods for measuring the project's results and effectiveness. Applications using direct contact methods with producers shall be scored higher.

Applications must identify the type and number of producer actions expected as a result of the projects, and how results shall be measured, in the following categories:

• Understanding risk management tools;

• Evaluating the feasibility of implementing various risk management options;

• Developing risk management plans and strategies;

• Deciding on and implementing a specific course of action (e.g., participation in crop insurance programs or implementation of other risk management actions).

Statement of Work—maximum 20 points available

Each application must include a clear and specific Statement of Work for the project. For each of the tasks contained in the Description of Agreement Award (see Section II, Award Information), the application must identify and describe specific subtasks, responsible entities, expected completion dates, RMA substantial involvement, and deliverables that shall further the purpose of this program. Applications shall obtain a higher score to the extent that the Statement of Work is specific, measurable and reasonable, has specific deadlines for the completion of subtasks, and relates directly to the required activities and the program purpose described in this Announcement. All narratives must provide estimates of the number of producers that shall be reached through this project. Estimates for reaching agribusiness professionals may also be provided but such estimates must be provided separately from the estimates of producers.

Partnering—maximum 15 points available

Each application must demonstrate experience and capacity to partner with and gain the support of producer organizations, agribusiness professionals, and agricultural leaders to carry out a local program of education and information in a designated Targeted State. Each application must establish a written partnering plan that describes how each partner shall aid in carrying out the project goal and purpose stated in this announcement and should include letters of commitment dated no more than 60 days prior to submission of the relevant application stating that the partner has agreed to do this work. Each application must ensure this plan includes a list of all partners working on the project, their titles, and how they will be contribute to the deliverables listed in the application. The partnering plan shall not count towards the maximum length of the application narrative. Applications shall receive higher scores to the extent that the application demonstrates: (a) That partnership commitments are in place for the express purpose of delivering the program in this announcement; (b) that a broad group of producers shall be reached within the Targeted State; (c) that partners are contributing to the project and involved in recruiting producers to attend the training; (d) that a substantial effort has been made to partner with organizations that can meet the needs of producers in the designated Targeted State; and (e) statements from each partner regarding the number of producers that partner is committed to recruit for the project that would support the estimates specified under the Project Impacts criterion.

Project Management—maximum 15 points available

Each application must demonstrate an ability to implement sound and effective project management practices. Higher scores in this category shall be awarded to applications that demonstrate organizational skills, leadership, and experience in delivering services or programs that assist agricultural producers in the designated Targeted State. Each application must demonstrate that the Project Director has the capability to accomplish the project goal and purpose stated in this announcement by (a) Having a previous or existing working relationship with the agricultural community in the designated Targeted State of the application, including being able to recruit approximately the number of producers to be reached in the application and/or (b) having established the capacity to partner with and gain the support of producer organizations, agribusiness professionals, and agribusiness leaders locally to aid in carrying out a program of education and information, including being able to recruit approximately the number of producers to be reached in this application. Applications must designate an alternate individual to assume responsibility as Project Director in the event the original Project Director is unable to finish the project. Applications that shall employ, or have access to, personnel who have experience in directing local educational programs that benefit agricultural producers in the respective Targeted State shall receive higher rankings in this category.

Budget Appropriateness and Efficiency—maximum 15 points available

Applications must provide a detailed budget summary that clearly explains and justifies costs associated with the project. Applications shall receive higher scores in this category to the extent that they can demonstrate a fair and reasonable use of funds appropriate for the project and a budget that contains the estimated cost of reaching each individual producer.

Special Emphasis Producers—maximum 15 points available

Applications shall obtain a higher score to the extent that the project places Special Emphasis on risk management strategies, education, and outreach specifically targeted at:

• Beginning farmers or ranchers;

• Legal immigrant farmers or ranchers that are attempting to become established producers in the United States;

• Socially disadvantaged farmers or ranchers;

• Farmers or ranchers that—

○ Are preparing to retire; and

○ Are using transition strategies to help new farmers or ranchers get started; and

• New or established farmers or ranchers that are converting production and marketing systems to pursue new markets.

Bonus Points for Diversity Partnering—Maximum 15 points available

RMA is focused on adding diversity to this program. RMA may add up to an additional 15 points to the final paneled score of any submission demonstrating a partnership with another group or entity that is a member of a specific population listed under Special Emphasis Producers above.

B. Selection and Review Process

Applications shall be evaluated using a two-part process. First, each application shall be screened by RMA personnel to ensure that it meets the requirements in this announcement. Applications that do not meet the minimum requirements of this announcement or are incomplete shall not advance to the second portion of the review process. Applications that meet announcement requirements shall be grouped together for comparison by the Targeted State for which the application proposes to conduct the project and shall be presented to a review panel for consideration in such groups. Thus, applications shall only be compared against other applications for the same Targeted State.

Second, the review panel shall meet to consider and discuss the merits of each application. The panel shall consist of at least three independent reviewers. Reviewers shall be drawn from USDA, other Federal agencies, and/or public and private organizations, as needed. After considering the merits of all applications within a Targeted State, panel members shall score each application according to the criteria and point values described above. The panel shall then rank each application against others within the Targeted State according to the scores received. The review panel shall report the results of the evaluation to the Manager of FCIC. The panel's report shall include the applicants recommended to receive awards for each Targeted State. An application receiving a total score less than 60 shall not receive funding.

An organization, or group of organizations in partnership, may apply for funding under other FCIC or RMA programs, in addition to the program described in this announcement. However, if the Manager of FCIC determines that an application recommended for funding under this Announcement is substantially similar to or duplicative of a project that has been funded or has been recommended to be funded under another RMA or FCIC program, then the Manager may elect to not fund that application under this program in whole or in part, depending upon the extent of the similarity or duplicity of applications. The Manager of FCIC shall make the final determination on those applications that shall be awarded funding.

VI. Award Administration Information

A. Award Notices

The award document shall provide pertinent instructions and information including, at a minimum, the following:

(1) Legal name and address of performing organization or institution to which the FCIC Manager has issued an award under the terms of this Request for Applications;

(2) Title of project;

(3) Name(s) and employing institution(s) of Project Directors chosen to direct and control approved activities;

(4) Identifying award number assigned by RMA;

(5) Project period, specifying the amount of time RMA intends to support the project without requiring recompeting for funds;

(6) Total amount of RMA financial assistance approved by the Manager of FCIC for the project period;

(7) Legal authority(ies) under which the award is issued;

(8) Appropriate Catalog of Federal Domestic Assistance (CFDA) number;

(9) Applicable award terms and conditions (see http://www.rma.usda.gov/business/awards/awardterms.html to view RMA award terms and conditions);

(10) Approved budget plan for categorizing allowable project funds to accomplish the stated purpose of the award; and

(11) Other information or provisions required by RMA to carry out its respective awarding activities or to accomplish the purpose of a particular award.

Following approval by the Manager of FCIC of the applications to be selected for funding, awardees whose applications have been selected for funding shall be notified. Within the limit of funds available for such a purpose, the Manager of FCIC shall enter into cooperative agreements with the awardees. After a cooperative agreement has been signed by all Parties (including RMA), RMA shall extend to awardees, in writing, the authority to draw down funds for the purpose of conducting the activities listed in the agreement. All funds provided to the awardee by RMA must be expended solely for the purpose for which the funds are obligated in accordance with the approved agreement and any applicable Federal law. No commitment of Federal assistance beyond the project period is made or implied for any award resulting from this notice. Notification to applicants for whom funding is denied shall be sent to applicants after final funding decisions have been made and awardees have been announced publicly. Reasons for denial of funding may include, but are not limited to, incomplete applications, applications with evaluation scores below 60, or applications with evaluation scores that are lower than those of other applications in a Targeted State.

B. Administrative and National Policy Requirements

1. Requirement to Use Program Logo

Awardees of cooperative agreements shall be required to use a program logo and design provided by RMA for all instructional and promotional materials, if appropriate.

2. Requirement to Provide Project Information to RMA-selected Representative(s)

Awardees of cooperative agreements may be required to assist RMA in evaluating the effectiveness of its educational programs by providing documentation of educational activities and related information to any representative(s) selected by RMA for program evaluation purposes.

3. Private Crop Insurance Organizations and Potential Conflict(s) of Interest

Private organizations that are involved in the sale of Federal crop insurance, or that have financial ties to such organizations, are eligible to apply for funding under this Announcement. However, such entities and their partners and collaborators for this Announcement shall not receive funding to conduct activities that are required under a Standard Reinsurance Agreement or any other agreement in effect between FCIC/RMA and the entity, or between FCIC/RMA and any of the partners or collaborators for awards under this Announcement. In addition, such entities and their partners and collaborators for this Announcement shall not be allowed to receive funding to conduct activities that could be perceived by producers as promoting the services or products of one company over the services or products of another company that provides the same or similar services or products. If applying for funding, such organizations must be aware of potential conflicts of interest and must describe in their application the specific actions they shall take to avoid actual and perceived conflicts of interest.

4. Access to Panel Review Information

Upon written request from the applicant, scores from the evaluation panel, not including the identity of reviewers, shall be sent to the applicant after the review and awards process has been completed.

5. Confidential Aspects of Applications and Awards

The names of applicants, the names of individuals identified in the applications, the content of applications, and the panel evaluations of applications shall remain confidential, except to those involved in the review process, to the extent permitted by law. In addition, the identities of review panel members shall remain confidential throughout the entire review process and shall not be released to applicants. At the end of the fiscal year, names of panel members may be made available. However, panelists shall not be identified with the review of any particular application. When an application results in a cooperative agreement, that agreement becomes a part of the official record of RMA transactions, available to the public upon specific request. Information that the Secretary of Agriculture determines to be of a confidential, privileged, or proprietary nature shall be held in confidence to the extent permitted by law. Therefore, any information that the applicant wishes to be considered confidential, privileged, or proprietary must be clearly marked within an application, including the legal basis for such designation. The original copy and extra copies of all applications, regardless of whether the application results in an award, shall be retained by RMA for a period of at least three years, then may be destroyed. Any copies of an application shall be released only to the extent required by law. An application may be withdrawn at any time prior to the time when award decisions are made.

6. Audit Requirements

Awardees of cooperative agreements may be subject to audit.

7. Prohibitions and Requirements With Regards to Lobbying

All cooperative agreements shall be subject to the requirements of 7 CFR part 3015, “Uniform Federal Assistance Regulations.” A signed copy of the certification and disclosure forms must be submitted with the application and are available at the address and telephone number listed in Section VII, Agency Contact.

Departmental regulations published at 7 CFR part 3018 impose prohibitions and requirements for disclosure and certification related to lobbying on awardees of Federal contracts, grants, cooperative partnership agreements and loans. It provides exemptions for Indian Tribes and Tribal organizations. Current and prospective awardees, and any subcontractors, are prohibited from using Federal funds, other than profits from a Federal contract, for lobbying Congress or any Federal agency in connection with the award of a contract, grant, cooperative partnership agreement or loan. In addition, for each award action in excess of $100,000 ($150,000 for loans) the law requires awardees and any subcontractors to complete a certification in accordance with Appendix A to Part 3018 and a disclosure of lobbying activities in accordance with Appendix B to Part 3018.: The law establishes civil penalties for non-compliance.

8. Applicable OMB Circulars

All cooperative agreements funded as a result of this notice shall be subject to the requirements contained in all applicable OMB circulars.

9. Requirement To Assure Compliance with Federal Civil Rights Laws

Awardees and all partners/collaborators of all cooperative agreements funded as a result of this notice are required to know and abide by Federal civil rights laws, which include, but are not limited to, Title VI of the Civil Rights Act of 1964 (42 U.S.C. 2000d et seq.), and 7 CFR part 15. RMA requires that awardees submit an Assurance Agreement (Civil Rights), assuring RMA of this compliance prior to the beginning of the project period.

10. Requirement To Participate in a Post-Award Teleconference

RMA requires that project leaders participate in a post-award teleconference, if conducted, to become fully aware of agreement requirements and for delineating the roles of RMA personnel and the procedures that shall be followed in administering the agreement and shall afford an opportunity for the orderly transition of agreement duties and obligations if different personnel are to assume post-award responsibility.

11. Requirement To Submit Educational Materials to the National AgRisk Education Library

RMA requires that awardees upload digital copies of all risk management educational materials developed as part of the project to the National AgRisk Education Library (http://www.agrisk.umn.edu/) for posting, if electronically reporting. RMA must be clearly identified as having provided funding for the materials.

12. Requirement To Submit Proposed Results to the National AgRisk Education Library

RMA requires that awardees submit results of the project to the National AgRisk Education Library (http://www.agrisk.umn.edu/) for posting, if electronically reporting. RMA must be clearly identified as having provided funding for the materials.

13. Requirement To Submit a Project Plan of Operation in the Event of a Human Pandemic Outbreak

RMA requires that project leaders submit a project plan of operation in case of a human pandemic event. The plan must address the concept of continuing operations as they relate to the project. This plan must include the roles, responsibilities, and contact information for the project team and individuals serving as back-ups in case of a pandemic outbreak.

C. Reporting Requirements

Awardees shall be required to submit quarterly progress reports using the Performance Progress Report (OMB SF-PPR) as the cover sheet and quarterly financial reports (OMB SF 425) throughout the project period, as well as a final program and financial report not later than 90 days after the end of the project period. The quarterly progress reports and final program reports MUST be submitted through the Results Verification System. The Web site address is for the Results Verification System is http://www.agrisk.umn.edu/RMA/Reporting.

VII. Agency Contact

FOR FURTHER INFORMATION CONTACT: Applicants and other interested parties must contact:, USDA-RMA-RME, phone: 202-720-0779, e-mail: RMA.Risk-Ed@rma.usda.gov. You may also obtain information regarding this announcement from the RMA Web site at: http://www.rma.usda.gov/aboutrma/agreements/.

VIII. Additional Information

A. Required Registration With the Central Contract Registry (CCR) for Submission of Proposals

Under the Federal Funding Accountability and Transparency Act of 2006, the applicant must comply with the additional requirements set forth in Attachment A regarding the Dun and Bradstreet Universal Numbering System (DUNS) Requirements and the CCR Requirements found at 2 CFR part 25. For the purposes of this RFA, the term “you” in Attachment A shall mean “applicant.” The applicant shall comply with the additional requirements set forth in Attachment B regarding Subawards and Executive Compensation. For the purpose of this RFA, the term “you” in Attachment B shall mean “applicant”. The Central Contract Registry CCR is a database that serves as the primary Government repository for contractor information required for the conduct of business with the Government. This database will also be used as a central location for maintaining organizational information for organizations seeking and receiving grants from the Government. Such organizations must register in the CCR prior to the submission of applications. A DUNS number is needed for CCR registration. For information about how to register in the CCR, visit “Get Registered” at the Web site, http://www.grants.gov. Allow a minimum of 5 business days to complete the CCR registration.

B. Related Programs

Funding availability for this program may be announced at approximately the same time as funding availability for similar but separate programs—and CFDA No. 10.458 (Crop Insurance Education in Targeted States). These programs have some similarities, but also key differences. The differences stem from important features of each program's authorizing legislation and different RMA objectives. Prospective applicants should carefully examine and compare the notices for each program.

Attachment A

I. Central Contractor Registration and Universal Identifier Requirements

A. Requirement for Central Contractor Registration (CCR)

Unless you are exempted from this requirement under 2 CFR 25.110, you as the recipient must maintain the currency of your information in the CCR until you submit the final financial report required under this award or receive the final payment, whichever is later. This requires that you review and update the information at least annually after the initial registration, and more frequently if required by changes in your information or another award term.

B. Requirement for Data Universal Numbering System (DUNS)

Numbers if you are authorized to make subawards under this award, you:

1. Must notify potential subrecipients that no entity (see definition in paragraph C of this award) may receive a subaward from you unless the entity has provided its DUNS number to you.

2. May not make a subaward to an entity unless the entity has provided its DUNS number to you.

C. Definitions for Purposes of This Award Term:

1. Central Contractor Registration (CCR) means the Federal repository into which an entity must provide information required for the conduct of business as a recipient. Additional information about registration procedures may be found at the CCR Internet site (currently at http://www.ccr.gov).

2. Data Universal Numbering System (DUNS) number means the nine-digit number established and assigned by Dun and Bradstreet, Inc. (D & B) to uniquely identify business entities. A DUNS number may be obtained from D & B by telephone (currently 1-866-705-5711) or the Internet (currently at http://fedgov.dnb.comlwebform).

3. Entity, as it is used in this award term, means all of the following, as defined at 2 CFR part 25, subpart C:

a. A Governmental organization, which is a State, local government, or Indian Tribe;

b. A foreign public entity;

c. A domestic or foreign nonprofit organization;

d. A domestic or foreign for-profit organization; and

e. A Federal agency, but only as a subrecipient under an award or subaward to a non-Federal entity.

4. Subaward:

a. This term means a legal instrument to provide support for the performance of any portion of the substantive project or program for which you received this award and that you as the recipient award to an eligible subrecipient.

b. The term does not include your procurement of property and services needed to carry out the project or program (for further explanation, see Sec. 10 of the attachment to OMB Circular A-I33, “Audits of States, Local Governments, and Non-Profit Organizations”).

c. A subaward may be provided through any legal agreement, including an agreement that you consider a contract.

5. Subrecipient means an entity that:

a. Receives a subaward from you under this award; and

b. Is accountable to you for the use of the Federal funds provided by the subaward.

Attachment B

I. Reporting Subawards and Executive Compensation.

a. Reporting of first-tier subawards.

1. Applicability. Unless you are exempt as provided in paragraph d. of this award term, you must report each action that obligates $25,000 or more in Federal funds that does not include Recovery funds (as defined in section 1512(a)(2) of the American Recovery and Reinvestment Act of 2009 (Pub. L. 111-5) for a subaward to an entity (see definitions in paragraph e. of this award term).

2. Where and when to report.

i. You must report each obligating action described in paragraph a.I. of this award term to http://www.fsrs.gov.

ii. For subaward information, report no later than the end of the month following the month in which the obligation was made. (For example, if the obligation was made on November 7, 2010, the obligation must be reported by no later than December 31, 2010.)

3. What to report. You must report the information about each obligating action that the submission instructions posted at http://www.fsrs.gov specify.

b. Reporting Total Compensation of Recipient Executives.

1. Applicability and what to report. You must report total compensation for each of your five most highly compensated executives for the preceding completed fiscal year, if—

i. The total Federal funding authorized to date under this award is $25,000 or more;

ii. In the preceding fiscal year, you received—

(A) 80 percent or more of your annual gross revenues from Federal procurement contracts (and subcontracts) and Federal financial assistance subject to the Transparency Act, as defined at 2 CFR 170.320 (and subawards); and

(B) $25,000,000 or more in annual gross revenues from Federal procurement contracts (and subcontracts) and Federal financial assistance subject to the Transparency Act, as defined at 2 CFR 170.320 (and subawards); and

iii. The public does not have access to information about the compensation of the executives through periodic reports filed under section 13(a) or 15(d) of the Securities Exchange Act of 1934 (15 U.S.C. 78m(a), 780(d)) or section 6104 of the Internal Revenue Code of 1986. (To determine if the public has access to the compensation information, see the U.S. Securities and Exchange Commission total compensation filings at http://www.sec.gov/answers/execomp.htm.)

2. Where and when to report. You must report executive total compensation described in paragraph b.1. of this award term:

i. As part of your registration profile at http://www.ccr.gov.

ii. By the end of the month following the month in which this award is made, and annually thereafter.

c. Reporting of Total Compensation of Subrecipient Executives

1. Applicability and what to report. Unless you are exempt as provided in paragraph d. of this award term, for each first-tier subrecipient under this award, you shall report the names and total compensation of each of the subrecipient's five most highly compensated executives for the subrecipient's preceding completed fiscal year, if—

i. in the subrecipient's preceding fiscal year, the subrecipient received—

(A) 80 percent or more of its annual gross revenues from Federal procurement contracts (and subcontracts) and Federal financial assistance subject to the Transparency Act, as defined at ~ CFR 170.320 (and subawards); and

(B) $25,000,000 or more in annual gross revenues from Federal procurement contracts (and subcontracts), and Federal financial assistance subject to the Transparency Act (and subawards); and

ii. The public does not have access to information about the compensation of the executives through periodic reports filed under section 13(a) or 15(d) of the Securities Exchange Act of 1934 (15 U.S.C. 78m(a), 780(d) or section 6104 of the Internal Revenue Code of 1986. (To determine if the public has access to the compensation information, see the U.S. Securities and Exchange Commission total compensation filings at http://www.sec.gov/answers/execomp.htm.)

2. Where and when to report. You must report subrecipient executive total compensation described in paragraph c.1. of this award term:

i. To the recipient.

ii. By the end of the month following the month during which you make the subaward. For example, if a subaward is obligated on any date during the month of October of a given year (i.e., between October 1 and 31), you must report any required compensation information of the subrecipient by November 30 of that year.

d. Exemptions

If, in the previous tax year, you had gross income, from all sources, under $300,000, you are exempt from the requirements to report:

i. Subawards, and

ii. The total compensation of the five most highly compensated executives of any subrecipient.

e. Definitions. For purposes of this award term:

1. Entity means all of the following, as defined in 2 CFR Part 25:

i. A Governmental organization, which is a State, local government, or Indian Tribe;

ii. A foreign public entity;

iii. A domestic or foreign nonprofit organization;

iv. A domestic or foreign for-profit organization;

v. A Federal agency, but only as a subrecipient under an award or subaward to a non-Federal entity.

2. Executive means officers, managing partners, or any other employees in management positions.

3. Subaward:

1. This term means a legal instrument to provide support for the performance of any portion of the substantive project or program for which you received this award and that you as the recipient award to an eligible subrecipient.

ii. The term does not include your procurement of property and services needed to carry out the project or program (for further explanation, see Sec. _ .210 of the attachment to OMB Circular A-133, “Audits of States, Local Governments, and Non-Profit Organizations”).

iii. A subaward may be provided through any legal agreement, including an agreement that you or a subrecipient considers a contract.

4. Subrecipient means an entity that:

i. Receives a sub award from you (the recipient) under this award; and

ii. Is accountable to you for the use of the Federal funds provided by the subaward.

5. Total compensation means the cash and noncash dollar value earned by the executive during the recipient's or subrecipient's preceding fiscal year and includes the following (for more information see 17 CFR 229.402(c)(2):

i. Salary and bonus.

ii. Awards of stock, stock options, and stock appreciation rights. Use the dollar amount recognized for financial statement reporting purposes with respect to the fiscal year in accordance with the Statement of Financial Accounting Standards No. 123 (Revised 2004) (FAS 123R), Shared Based Payments.

iii. Earnings for services under non-equity incentive plans. This does not include group life, health, hospitalization or medical reimbursement plans that do not discriminate in favor of executives, and are available generally to all salaried employees.

iv. Change in pension value. This is the change in present value of defined benefit and actuarial pension plans.

v. Above-market earnings on deferred compensation which is not tax-qualified.

vi. Other compensation, if the aggregate value of all such other compensation (e.g. severance, termination payments, value of life insurance paid on behalf of the employee, perquisites or property) for the executive exceeds $10,000.

Signed in Washington, DC on June 9, 2011.
William J. Murphy,
Manager, Federal Crop Insurance Corporation.

[FR Doc. 2011-14838 Filed 6-14-11; 8:45 am]

BILLING CODE 3410-08-P